DEPARTMENT OF TRANSPORTATION

Federal Aviation Administration

14 CFR Part 39

[Docket No. FAA-2005-22206; Directorate Identifier 2005-CE-45-AD; Amendment 39-14432; AD 2005-26-11]

RIN 2120-AA64

Airworthiness Directives; DG Flugzeugbau GmbH Models DG-800B and DG-500MB Sailplanes

AGENCY: Federal Aviation Administration (FAA), DOT.

ACTION: Final rule.

SUMMARY: The FAA adopts a new airworthiness directive (AD) for certain DG Flugzeugbau GmbH Models DG-800B and DG-500MB sailplanes. This AD requires you to modify the connection of the starter ring gear to the lower drive belt pulley adapter. This AD results from mandatory continuing airworthiness information (MCAI) issued by the airworthiness authority for Germany. We are issuing this AD to prevent the bolts currently used to connect the starter ring gear to the drive belt pulley adapter from shearing off and the bolt heads falling into the engine compartment. Failure of this connection could render the engine inoperative. Consequently, this failure could lead to loss of control of the sailplane.

DATES: This AD becomes effective on February 7, 2006.

As of February 7, 2006, the Director of the Federal Register approved the incorporation by reference of certain publications listed in the regulation.

ADDRESSES: To get the service information identified in this AD, contact DG-Flugzeugbau, Postbox 41 20, D-76625 Bruchsal, Federal Republic of Germany; telephone: ++49 7257 890; facsimile: ++45 7257 8922; Internet: www.dg-flugzeugbau.de.

To view the AD docket, go to the Docket Management Facility; U.S. Department of Transportation, 400 Seventh Street, SW., Nassif Building, Room PL-401, Washington, DC 20590-0001 or on the Internet at http://dms.dot.gov. The docket number is FAA-2005-22206; Directorate Identifier 2005-CE-45-AD.

FOR FURTHER INFORMATION CONTACT: Gregory Davison, Glider Project Manager, ACE-112, Small Airplane Directorate, 901 Locust, Room 301, Kansas City, Missouri 64106; telephone: (816) 329-4130; facsimile: (816) 329-4090.

SUPPLEMENTARY INFORMATION:

Discussion

What events have caused this AD? The Luftfahrt-Bundesamt (LBA), which is the airworthiness authority for Germany, recently notified FAA that an unsafe condition may exist on certain DG Flugzeugbau GmbH Models DG-800B and DG-500MB sailplanes. The LBA reports that sheared off bolt heads have been found in the engine compartment of approximately 20 of the specified sailplanes. These bolts connect the starter ring gear to the lower drive belt pulley adapter. Failure of this connection could render the engine inoperative.

What is the potential impact if FAA took no action? The bolts currently used to connect the starter ring gear to the drive belt pulley adapter may shear off and the bolt heads could fall into the engine compartment. Failure of this connection could render the engine inoperative. Consequently, this failure could lead to loss of control of the sailplane.

Has FAA taken any action to this point? We issued a proposal to amend part 39 of the Federal Aviation Regulations (14 CFR part 39) to include an AD that would apply to certain DG Flugzeugbau GmbH Models DG-800B and DG-500MB sailplanes. This proposal was published in the Federal Register as a notice of proposed rulemaking (NPRM) on October 9, 2005 (70 FR 58107). The NPRM proposed to require the modification of the connection of the starter ring gear to the lower drive belt pulley adapter.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 7 sailplanes in the U.S. registry.

What is the cost impact of this AD on owners/operators of the affected sailplanes? We estimate the following costs to do this modification:

Labor cost | Parts cost | Total cost per sailplane | Total cost on U.S. operators
3 work hours × $65 = $195 | $21 | $216 | $1,512

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-22206; Directorate Identifier 2005-CE-45-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-26-11 DG Flugzeugbau GmbH: Amendment 39-14432; Docket No. FAA-2005-22206; Directorate Identifier 2005-CE-45-AD.

When Does This AD Become Effective?

(a) This AD becomes effective on February 7, 2006.

What Other ADs Are Affected by This Action?

(b) None.

What Sailplanes Are Affected by This AD?

(c) This AD affects the following sailplane models and serial numbers that are certificated in any category:

Model | Serial Nos.
(1) DG-800B | All serial numbers up to and including 8-260, with the exception of 8-247 and 8-258; and
(2) DG-500MB | All serial numbers up to and including 5E220B15, with the exception of 5E190B5.

What Is the Unsafe Condition Presented in This AD?

(d) This AD is the result of bolt failure in the connection of the starter ring gear to the drive belt pulley adapter. The bolt heads may shear off and the bolt heads could fall into the engine compartment. The actions specified in this AD are intended to prevent the bolts currently used to connect the starter ring gear to the drive belt pulley adapter from shearing off and the bolt heads falling into the engine compartment. Failure of this connection could render the engine inoperative. Consequently, this failure could lead to loss of control of the sailplane.

What Must I Do to Address This Problem?

(e) To address this problem, you must do the following:

Actions | Compliance | Procedures
(1) Remove the starter ring gear assembly with adapter and lower drive belt pulley | Within 30 days after February 7, 2006 (the effective date of this AD) | Follow DG-Flugzeugbau GmbH Working Instruction No. 1 for TN 873/30, dated June 9, 2004; and Technical Note No. 873/30 and No. 843/22, approved by Luftfahrt-Bundesamt (LBA) on June 29, 2004, and approved by European Aviation Safety Agency (EASA) on July 9, 2004.
(2) Modify the connection area where the bolts connect the starter ring gear to the lower drive belt pulley adapter | Within 30 days after February 7, 2006 (the effective date of this AD) | Follow DG-Flugzeugbau GmbH Working Instruction No. 1 for TN 873/30, dated June 9, 2004; and Technical Note No. 873/30 and No. 843/22, approved by LBA on June 29, 2004, and approved by EASA on July 9, 2004.
(3) Reinstall the starter ring gear assembly with the adapter and lower pulley | Within 30 days after February 7, 2006 (the effective date of this AD) | Follow DG-Flugzeugbau GmbH Working Instruction No. 1 for TN 873/30, dated June 9, 2004; and Technical Note No. 873/30 and No. 843/22, approved by LBA on June 29, 2004, and approved by EASA on July 9, 2004.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Gregory Davison, Glider Project Manager, ACE-112, Small Airplane Directorate, 901 Locust, Room 301, Kansas City, Missouri 64106; telephone: (816) 329-4130; facsimile: (816) 329-4090.

Is There Other Information That Relates to This Subject?

(g) LBA Airworthiness Directive D-2004-347, dated July 2, 2004; DG-Flugzeugbau GmbH Working Instruction No. 1 for TN 873/30, dated June 9, 2004; and Technical Note No. 873/30 and No. 843/22, approved by LBA on June 29, 2004, and approved by the EASA on July 9, 2004, also address the subject of this AD.

Does This AD Incorporate Any Material by Reference?

(h) You must do the actions required by this AD following the instructions in DG-Flugzeugbau GmbH Working Instruction No. 1 for TN 873/30, dated June 9, 2004; and Technical Note No. 873/30 and No. 843/22, approved by LBA on June 29, 2004, and approved by the EASA on July 9, 2004. The Director of the Federal Register approved the incorporation by reference of this service information in accordance with 5 U.S.C. 552(a) and 1 CFR part 51. To get a copy of this service information, contact DG-Flugzeugbau, Postbox 41 20, D-76625 Bruchsal, Federal Republic of Germany; telephone: ++49 7257 890; facsimile: ++45 7257 8922; e-mail: www.dg-flugzeugbau.de. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-0001 or on the Internet at http://dms.dot.gov. The docket number is FAA-2005-22206; Directorate Identifier 2005-CE-45-AD.

Issued in Kansas City, Missouri, on December 16, 2005.
David R. Showers,
Acting Manager, Small Airplane Directorate, Aircraft Certification Service.

[FR Doc. 05-24481 Filed 12-27-05; 8:45 am]

BILLING CODE 4910-13-P